DEPARTMENT OF ENERGY

Federal Energy Regulatory Commission

[Docket No. CP02-78-000]

Maritimes & Northeast Pipeline, L.L.C.; Notice of Technical Conference

June 5, 2003.

On June 19, 2003, the Staff of the Commission will hold a technical conference concerning the status of the pipeline expansion proposal made by Maritimes & Northeast Pipeline, L.L.C. in the above referenced proceeding.

The conference will be held at 2 p.m. at the Commission's offices at 888 First Street NE., Washington, DC.

Any parties to this proceeding with questions about the technical conference should call Richard Foley at (202) 502-8955.

Magalie R. Salas,
Secretary.

[FR Doc. 03-14750 Filed 6-10-03; 8:45 am]

BILLING CODE 6717-01-P